DEPARTMENT OF THE INTERIOR

National Park Service

National Register of Historic Places; Notification of Pending Nominations and Related Actions

Nominations for the following properties being considered for listing or related actions in the National Register were received by the National Park Service before July 31, 2010. Pursuant to section 60.13 of 36 CFR Part 60, written comments are being accepted concerning the significance of the nominated properties under the National Register criteria for evaluation. Comments may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by September 7, 2010.

Before including your address, phone number, e-mail address, or other personal identifying information in your comment, you should be aware that your entire comment—including your personal identifying information—may be made publicly available at any time. While you can ask us in your comment to withhold your personal identifying information from public review, we cannot guarantee that we will be able to do so.

Alexandra M. Lord,
Acting Chief, National Register of Historic Places/National Historic Landmarks Program.

ARIZONA

Gila County

Tonto National Monument Visitor Center, Arizona State Highway 188, Gila, 10000734

Pima County

Don Martin Apartment House, (Architecture and Planning of Josias Joesler and John Murphey in Tucson, AZ MPS), 605 E 9th St, Tucson, 10000748

Eleven Arches, The, (Architecture and Planning of Josias Joesler and John Murphey in Tucson, AZ MPS), 5201 N. Hacienda Del Sol, Tucson, 10000740

Erskine P. Caldwell House, (Architecture and Planning of Josias Joesler and John Murphey in Tucson, AZ MPS), 1915 E. Camino Miraval, Tucson, 10000747

First Joesler House, (Architecture and Planning of Josias Joesler and John Murphey in Tucson, AZ MPS), 3408 E. Fairmount St, Tucson, 10000741

Gabel, House, (Architecture and Planning of Josias Joesler and John Murphey in Tucson, AZ MPS), 5445 N. Camino Escuela, Tucson, 10000742

Haynes Building, (Architecture and Planning of Josias Joesler and John Murphey in Tucson, AZ MPS), 312-314 E. Sixth St, Tucson, 10000743

Hecker House, (Architecture and Planning of Josias Joesler and John Murphey in Tucson, AZ MPS), 2635 N. Camino Principal, Tucson, 10000744

Type A at 2101 E. Water St, (Architecture and Planning of Josias Joesler and John Murphey in Tucson, AZ MPS), 2101 E. Water St, Tucson, 10000745

Type B at 2019 E. Water St, (Architecture and Planning of Josias Joesler and John Murphey in Tucson, AZ MPS), 2019 E Water St, Tucson, 10000746

ILLINOIS

Cook County

K-Town Historic District, Bounded on the N by W Cullerton St; on the S by W Cermak Rd, on the W by S Kostner Ave, and on the E by S Pulaski Rd, Chicago, 10000724

Johnson County

Johnson County Courthouse, Courthouse Square, Vienna, 10000725

MASSACHUSETTS

Worcester County

First Presbyterian Society Meeting House, 20 Main St, Millbury, 10000722

MISSOURI

Cape Girardeau County

Courthouse—Seminary Neighborhood Historic District, Roughly bounded by Middle, Themis, Main, Aquamsi, and Morgan Oaks St, Cape Girardeau, 10000723

NEW YORK

Hamilton County

Pillsbury Mountain Forest Fire Observation Station, (Fire Observation Stations of New York State Forest Preserve MPS), Pillsbury Mountain, Arietta, 10000728

Montgomery County

Sternberg, Abraham, House, 150 Rte 30A, Schoharie, 10000726

Oneida County

Munson—Williams—Proctor Arts Institute, 310 Genesee St, Utica, 10000727

RHODE ISLAND

Providence County

Edgewood Historic District— Arnold Farm Plat, (Edgewood Neighborhood, Cranston, R.I. MPS), Arnold, Albert, Columbia Aves; parts of Broad St, Pawtuxet Ave, Narragansett Blvd, Cranston, 10000733

TEXAS

Bexar County

Herrera Ranch, Old Somerset Rd at the Medina River, Von Ormy, 10000737

Harris County

Sylvan Beach Pavilion, 554 N Bayshore Dr, La Porte, 10000738

Travis County

Chapman House, 901 E 12th St, Austin, 10000739

UTAH

Salt Lake County

Curtis, Genevieve & Alexander, House, 1119 E Westminster Ave, Salt Lake City, 10000730

Utah County

Loveless House, (Orem, Utah MPS), 509 E 800 S, Orem, 10000729

Verd's Fruit Market Complex, (Orem, Utah MPS), 1320 N State St, Orem, 10000731

Washington County

Grafton Historic District, Beginning at Hall and Grafton Ditch and the Grafton to Rockville Rd, Rockville, 10000732

VIRGINIA

Richmond Independent city

John Rolfe Apartments, 101 Tempsford Ln, Richmond, 10000736

Scott County

Gate City Historic District, Give blocks E and W Jackson St, Scott, 10000735

WASHINGTON

Spokane County

Spokane & Inland Empire Railroad Car Facility, 800 E Spokane Falls Blvd., Spokane, 10000749

[FR Doc. 2010-20783 Filed 8-20-10; 8:45 am]

BILLING CODE P